DEPARTMENT OF DEFENSE

Office of the Secretary

Charter Renewal of Department of Defense Federal Advisory Committees

AGENCY: Department of Defense.

ACTION: Renewal of Federal Advisory Committee.

SUMMARY: The Department of Defense is publishing this notice to announce that it is renewing the charter for the Secretary of the Navy Advisory Panel (“the Panel”).

FOR FURTHER INFORMATION CONTACT: Jim Freeman, Advisory Committee Management Officer for the Department of Defense, 703-692-5952.

SUPPLEMENTARY INFORMATION: This committee's charter is being renewed in accordance with the Federal Advisory Committee Act (FACA) of 1972 (5 U.S.C., Appendix, as amended) and 41 CFR 102-3.50(d).

The Panel is a discretionary Federal advisory committee that provides the Secretary of Defense and the Deputy Secretary of Defense, through the Secretary of the Navy, independent advice and recommendations on critical matters concerning the Department of the Navy.

The Panel's focus will include Department of the Navy administration and management, recruitment and training, equipment acquisition and maintenance, military and civilian manpower systems, basing and support infrastructure, and logistical support. The Panel will also focus on research and development matters confronting the U.S. Navy and the U.S. Marine Corps and on matters pertaining to preserving the history and heritage of the Naval Services.

The Panel shall be composed of no more than 15 members. The members will be eminent authorities in the fields of science, research, finance, history, engineering, business, and industry.

The appointment of Panel members will be authorized by the Secretary of Defense or the Deputy Secretary of Defense, and administratively certified by the Secretary of the Navy, for a term of service of one-to-four years, and their appointments will be renewed on an annual basis in accordance with DoD policies and procedures. Members of the Panel who are not full-time or permanent part-time Federal officers or employees will be appointed as experts or consultants pursuant to 5 U.S.C. 3109 to serve as special government employee (SGE) members. Panel members who are full-time or permanent part-time Federal officers or employees will serve as regular government employee (RGE) members. No member, unless authorized by the Secretary of Defense, may serve more than two consecutive terms of service on the Panel, to include its subcommittees, or serve on more than two DoD federal advisory committees at one time.

All members of the Panel are appointed to provide advice on behalf of the Government on the basis of their best judgment without representing any particular point of view and in a manner that is free from conflict of interest.

Except for reimbursement of official Panel-related travel and per diem, Panel members serve without compensation.

The Secretary of the Navy has the delegated authority to appoint the Panel's Chair from among the membership previously authorized by the Secretary of Defense or Deputy Secretary of Defense.

The DoD, as necessary and consistent with the Panel's mission and DoD policies and procedures, may establish subcommittees, task forces, or working groups to support the Panel.

Establishment of subcommittees will be based upon a written determination, to include terms of reference, by the Secretary of Defense, the Deputy Secretary of Defense, or the Secretary of the Navy, as the DoD Sponsor.

Such subcommittees shall not work independently of the Panel and shall report all their recommendations and advice solely to the Panel for full deliberation and discussion. Subcommittees, task forces, or working groups have no authority to make decisions and recommendations, verbally or in writing, on behalf of the Panel. No subcommittee or any of its members can update or report, verbally or in writing, directly to the DoD or any Federal officers or employees. If a majority of Panel members are appointed to a particular subcommittee, then that subcommittee may be required to operate pursuant to the same notice and openness requirements of FACA which govern the Panel's operations.

Pursuant to Secretary of Defense policy, the Secretary of the Navy is authorized to administratively certify the appointment of subcommittee members if the Secretary of Defense or the Deputy Secretary of Defense has previously authorized the individual's appointment to the Panel or another DoD advisory committee. If the Secretary of Defense or the Deputy Secretary of Defense has not previously authorized the appointment of the individual to the Panel or another DoD advisory committee, then the individual's subcommittee appointment must first be authorized by the Secretary of Defense or the Deputy Secretary of Defense and subsequently administratively certified by the Secretary of the Navy.

Subcommittee members, with the approval of the Secretary of Defense, will be appointed for a term of service of one-to-four years, subject to annual renewals; however, no member shall serve more than two consecutive terms of service on the subcommittee. Subcommittee members, if not full-time or part-time Federal officers or employees, will be appointed as experts or consultants pursuant to 5 U.S.C. 3109 to serve as SGE members. Subcommittee members who are full-time or permanent part-time Federal officers or employees will serve as RGE members. With the exception of reimbursement for travel and per diem as it pertains to official travel related to the Panel or its subcommittees, Panel subcommittee members shall serve without compensation.

The Secretary of Defense authorizes the Secretary of the Navy to appoint the chair and vice chair of any appropriately approved subcommittees from among the subcommittee membership previously authorized by the Secretary of Defense or Deputy Secretary of Defense.

Each subcommittee member is appointed to provide advice on behalf of the Government on the basis of his or her best judgment without representing any particular point of view and in a manner that is free from conflict of interest.

All subcommittees operate under the provisions of the FACA, the Sunshine Act, governing Federal statutes and regulations, and established DoD policies and procedures.

Currently, DoD has approved the following two permanent subcommittees to the Panel:

(a) The Naval Research Advisory Committee shall be composed of not more than seven members and shall provide independent advice and recommendations on scientific, technical, research, and development matters confronting the U.S. Navy and the U.S. Marine Corps. Pursuant to 10 U.S.C. 5024(a), the subcommittee shall consist of civilians preeminent in the fields of science, research, and development work, and one member must be from the field of medicine. The estimated number of meetings is four per year.

(b) The Secretary of the Navy's Advisory Subcommittee on Naval History shall be composed of not more than 15 members and shall provide independent advice and recommendations on matters pertaining to preserving the heritage and legacy of the Naval Services and disseminating their rich history to the Service and the American public. Advisory topics may include professional standards, methods, program priorities, cooperative relationships in Marine Corps and Navy's historical research and publication programs, museums, archives, archeology, libraries, manuscript collections, rare book collections, art collections, preservation, and curatorial activities. The subcommittee shall consist of civilians who have broad managerial experience, vision, and understanding in one or more of the following areas: Military and maritime history, archives, museology, art, library science, and information technology. The estimated number of meetings is one per year.

The Panel's Designated Federal Officer (DFO), pursuant to DoD policy, shall be a full-time or permanent part-time DoD employee, and will be appointed in accordance with established DoD policies and procedures.

The Panel's DFO is required to be in attendance at all Panel and subcommittee meetings for the duration of each and every meeting. However, in the absence of the Panel's DFO, a properly approved Alternate DFO, duly appointed to the Panel according to DoD policies and procedures, will attend the entire duration of all of the Panel or subcommittee meeting.

The DFO, or the Alternate DFO, will call all of the Panel and its subcommittee meetings; prepare and approve all meeting agendas; adjourn any meeting, when the DFO, or the Alternate DFO, determines adjournment to be in the public interest or required by governing regulations or DoD policies and procedures; and chair meetings when directed to do so by the official to whom the Panel reports.

Pursuant to 41 CFR 102-3.105(j) and 102-3.140, the public or interested organizations may submit written statements to Panel membership about the Panel's mission and functions. Written statements may be submitted at any time or in response to the stated agenda of planned meeting of the Panel.

All written statements shall be submitted to the DFO for the Panel, and this individual will ensure that the written statements are provided to the membership for their consideration. Contact information for the Panel's DFO can be obtained from the GSA's FACA Database— http://www.facadatabase.gov/.

The DFO, pursuant to 41 CFR 102-3.150, will announce planned meetings of the Panel. The DFO, at that time, may provide additional guidance on the submission of written statements that are in response to the stated agenda for the planned meeting in question.

Dated: December 22, 2015.
Aaron Siegel,
Alternate OSD Federal Register Liaison Officer, Department of Defense.

[FR Doc. 2015-32671 Filed 12-28-15; 8:45 am]

BILLING CODE 5001-06-P